NATIONAL CREDIT UNION ADMINISTRATION

Submission for OMB Review; Comment Request

AGENCY: National Credit Union Administration (NCUA).

ACTION: Notice.

SUMMARY: The National Credit Union Administration (NCUA) will submit the following information collection request to the Office of Management and Budget (OMB) for review and clearance in accordance with the Paperwork Reduction Act of 1995, on or after the date of publication of this notice.

DATES: Comments should be received on or before March 15, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mackie Malaka at (703) 548-2704, emailing PRAComments@ncua.gov, or viewing the entire information collection request at www.reginfo.gov.

SUPPLEMENTARY INFORMATION: OMB Number: 3133-0180.

Type of Review: Extension of a currently approved collection.

Title: Liquidity and Contingency Funding Plans, 12 CFR 741.12.

Abstract: The 2008 financial crisis demonstrated the importance of good liquidity risk management to the safety and soundness of financial institutions. In conjunction with the OCC, FRB, FDIC, and Conference of State Bank Supervisors (CSBS), adopted the Interagency Policy Statement on Funding and Liquidity Risk Management in March of 2010.

In October 2013, to clarify NCUA's expectation on the Interagency Policy Statement and to reduce the regulatory burden on small credit unions, NCUA codified the requirements for Liquidity and Contingency Funding Plans as § 741.12. The rule establishes a three-tier framework for federally insured credit unions, based on asset size. Federally insured credit union with assets under $50 million must maintain a basic policy, federally insured credit unions with assets of $50 million and over must maintain a contingency funding plan, and federally insured credit unions with assets over $250 million must maintain a contingency funding plan and establish a federal liquidity contingency source.

Affected Public: Private Sector: Not-for-profit institutions.

Estimated Total Annual Burden Hours: 4,247.

By Melane Conyers-Ausbrooks, Secretary of the Board, the National Credit Union Administration, on February 9, 2021.

Dated: February 9, 2021.
Mackie I. Malaka,
NCUA PRA Clearance Officer.

[FR Doc. 2021-02954 Filed 2-11-21; 8:45 am]

BILLING CODE 7535-01-P